DEPARTMENT OF HOMELAND SECURITY

Coast Guard

33 CFR Part 117

[Docket No. USCG-2013-0708]

Drawbridge Operation Regulation; Grassy Sound Channel, Middle Township, NJ

AGENCY: Coast Guard, DHS.

ACTION: Notice of deviation from drawbridge regulation.

SUMMARY: The Coast Guard has issued a temporary deviation from the operating schedule that governs the Grassy Sound Channel Bridge (Ocean Drive) across Grassy Sound, mile 1.0, at Middle Township, NJ. The deviation is necessary to accommodate the “Tri the Wildwoods Triathlon and 5k” event. This temporary deviation allows the bridge draw span to remain in the closed to navigation position for 4 hours during the event.

DATES: This deviation is effective from 6 a.m. until 10 a.m. on August 17, 2013.

ADDRESSES: The docket for this deviation, [USCG-2013-0708] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Jim Rousseau, Bridge Administration Branch Fifth District, Coast Guard; telephone (757) 398-6557, email James.L.Rousseau2@uscg.mil. If you have questions on reviewing the docket, call Barbara Hairston, Program Manager, Docket Operations, (202) 366-9826.

SUPPLEMENTARY INFORMATION: Cape May County Department of Public Works, owner of the drawbridge, has requested on behalf of DelMosports, Inc. a temporary deviation from the current operating schedule to accommodate the “Tri the Wildwoods Triathlon and 5K” event.

The existing drawbridge operation regulations are listed at 33 CFR 117.721. On the day of the event, the normal regular operating schedule for May 15 through September 30, the Grassy Sound Channel Bridge (Ocean Drive), at mile 1.0, at Middle Township, NJ is open on signal from 6 a.m. to 8 p.m. with a two hours advance notice at all other times. The Grassy Sound Channel Bridge (Ocean Drive) across the Grassy Sound has a vertical clearance in the closed position of 15 feet above mean high water.

Under this temporary deviation, the drawbridge will be allowed to remain in the closed to navigation position from 6 a.m. to 10 a.m. on Saturday, August 17, 2013 to accommodate “Tri the Wildwoods Triathlon and 5K” event. The bridge will operate under its normal operating schedule at all other times. Log books indicate there has only been one opening request for this yearly event in 8 years and waterway users are accustom to the temporary closure.

Vessels able to pass under the bridge in the closed position may do so at anytime and are advised to proceed with caution. The bridge will be able to open for emergencies. The New Jersey Intracoastal Waterway is an alternate route for vessels transiting this area and vessels may pass before and after the closure. The Coast Guard will also inform additional waterway users through our Local and Broadcast Notices to Mariners of the closure periods for the bridge so that vessels can arrange their transits to minimize any impacts caused by the temporary deviation.

In accordance with 33 CFR 117.35(e), the drawbridge must return to its regular operating schedule immediately at the end of the designated time period. This deviation from the operating regulations is authorized under 33 CFR 117.35.

Dated: July 30, 2013.
Waverly W. Gregory, Jr.,
Bridge Program Manager, Fifth Coast Guard District.

[FR Doc. 2013-19212 Filed 8-7-13; 8:45 am]

BILLING CODE 9110-04-P